DEPARTMENT OF ENERGY

Federal Energy Regulatory Commission

Combined Notice of Filings

Take notice that the Commission has received the following Natural Gas Pipeline Rate and Refund Report filings:

Filings Instituting Proceedings

Docket Numbers: RP26-380-000.

Applicants: Northern Natural Gas Company.

Description: § 4(d) Rate Filing: 20260114 Negotiated Rate Filing to be effective 1/15/2026.

Filed Date: 1/14/26.

Accession Number: 20260114-5142.

Comment Date: 5 p.m. ET 1/26/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP25-936-000.

Applicants: Vector Pipeline L.P., Adelphia Gateway, LLC.

Description: Report Filing: Vector Pipeline L.P. submits tariff filing per 154.311: Vector Pipeline Rate Case 45-day Update Filing to be effective N/A.

Filed Date: 1/15/26.

Accession Number: 20260115-5001.

Comment Date: 5 p.m. ET 1/27/26.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: January 15, 2026.
Debbie-Anne A. Reese,
Secretary.

[FR Doc. 2026-01080 Filed 1-20-26; 8:45 am]

BILLING CODE 6717-01-P